DEPARTMENT OF COMMERCE

Bureau of Industry and Security

15 CFR Parts 730, 734, 738, 740, 742, 743, 744, 746, 772 and 774

[Docket No. 0612242573-7104-01]

RIN 0694-AD71

Revisions to License Requirements and License Exception Eligibility for Certain Thermal Imaging Cameras and Foreign Made Military Commodities Incorporating Such Cameras

AGENCY: Bureau of Industry and Security, Commerce.

ACTION: Final rule.

SUMMARY: This rule imposes a license requirement for certain exports and reexports of military commodities manufactured outside the United States that are not subject to the International Traffic in Arms Regulations, regardless of the level of U.S. origin content, if those military commodities incorporate certain thermal imaging cameras that are subject to the Export Administration Regulations. This rule also removes Commerce Control List (CCL) based export and reexport license requirements with respect to 36 destinations for certain thermal imaging cameras when they are not incorporated into military commodities and if they are not being exported or reexported to be embedded in a civil product. It imposes a semi-annual reporting requirement on the transactions from which it removes the CCL based license requirements. This rule limits use of License Exception APR for reexports of certain cameras controlled by Export Control Classification Number 6A003.b.4.b and certain foreign made military commodities incorporating such cameras. This rule imposes a license requirement for software used to increase the frame rate of certain cameras. BIS is making these changes in recognition of the emerging availability of these cameras around the world, the export licensing practices of other governments and the potential use of these cameras in military applications.

DATES: Effective Date: This rule is effective May 22, 2009.

Compliance Date: All reexports made ineligible for License Exception APR by this rule and exports or reexports for which this rule imposes a new license requirement must be in compliance with this rule no later than June 22, 2009.

FOR FURTHER INFORMATION CONTACT: John Varesi, Sensors and Aviation Division, Office of National Security and Technology Transfer Controls (202) 482-1114 or jvaresi@bis.doc.gov.

SUPPLEMENTARY INFORMATION:

Background

The Export Administration Regulations (EAR) impose license requirements on, among other things, imaging cameras incorporating non-space-qualified, non-linear (2-dimensional) infrared focal plane arrays, based on microbolometer material having individual elements with an unfiltered response in the wavelength range equal to or exceeding 8,000 nm but not exceeding 14,000 nm. Prior to publication of this rule, these cameras were listed on the Commerce Control List (CCL) with national security (NS column 2), regional stability (RS column 1), antiterrorism (AT column 1) and United Nations embargo (UN) reasons for control. The RS column 1 reason for control is the most restrictive of these controls, imposing a license requirement on exports and reexports to all destinations other than Canada. Prior to publication of this rule, all of these cameras were also eligible under License Exception APR for reexport from Country Group A:1 and cooperating countries to Country Group D:1, and for reexport to Country Group A:1 and cooperating countries as identified in Supplement No. 1 to part 740 of the EAR.

In light of the potential for these cameras to be used in military applications as well as the growing number of foreign suppliers and the export license policies of other governments with respect to the destinations that form major markets for thermal imaging cameras, a revision of CCL based license requirements on certain cameras is warranted.

These cameras have the potential for military application, including incorporation into military commodities in ways that significantly enhance the capabilities of the military commodity. Therefore, in this rule, BIS is asserting licensing jurisdiction over military commodities manufactured outside the United States that incorporate certain cameras that are listed on the CCL. This rule adopts a definition of military commodity that is based on the Munitions List that is published by the Wassenaar Arrangement on Export Controls for Conventional Arms and Dual-Use Goods and Technologies (WAML) and the United States Munitions List (22 CFR Part 121). However, to prevent redundant coverage, this military commodity provision does not apply to items that are controlled by Export Control Classification Numbers (ECCNs) that end in the numerals “018” because such ECCNs apply to items on the WAML and are already subject to the EAR. This rule also revises controls based on camera performance level as measured by the number of elements in the camera's focal plane array, its frame rate and whether the camera is being exported or reexported to be embedded in a civil product. A camera that incorporates a focal plane array with more elements generally can record more detail about an image than can an otherwise identical camera that incorporates an array with fewer elements. A camera with a higher frame rate generally can capture more detail about the path of a moving object and depict the motion of objects more smoothly than can an otherwise identical camera with a lower frame rate. Cameras that will be embedded in a civil product pose concerns that are difficult to resolve without knowing the type of civil product into which the camera will be embedded.

Changes Being Made by This Rule

Application of EAR to Military Commodities Not Otherwise Subject to the EAR or to the ITAR That Incorporate Certain Infrared Cameras

This rule makes the de minimis provisions of the EAR inapplicable to military commodities made outside the United States that are not subject to the International Traffic in Arms Regulations (ITAR) (22 CFR Parts 120—130) and that incorporate cameras that are described in ECCN 6A003.b.4.b.

The rule also imposes a regional stability (RS column 1) license requirement on such military commodities for reexport, thereby requiring a license to any destination other than Canada. However, this license requirement does not apply if the export or reexport is part of a military deployment by any unit of the government of Australia, Austria, Belgium, Bulgaria, Canada, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, the United Kingdom or the United States. Applications to reexport such military commodities will be reviewed in a manner that is consistent with the policies for similar military commodities that are subject to the ITAR.

The rule accomplishes these changes by revising § 734.4 to make foreign made military commodities containing ECCN 6A003.b.4.b cameras ineligible for de minimis treatment, by revising § 742.6(a)(2) to apply the RS column 1 license requirement and United States Munitions List licensing policy to military commodities controlled by ECCN 0A919, by revising § 772.1 adding a definition of “military commodity,” and by revising Supplement No. 1 to part 774 to create a new ECCN 0A919 to apply to military commodities made outside the United States that are not subject to the ITAR. This rule also imposes anti-terrorism (AT Column 1) and United Nations (arms embargo, Rwanda) license requirements and licensing policy to military commodities controlled by ECCN 0A919.

This rule also revises the treatment of thermal imaging cameras that incorporate focal plane arrays as described below.

Retention of Current License Requirements and License Application Review Policy for the Higher Frame Rates and Number of Elements in the Cameras' Focal Plane Arrays and for Cameras Being Exported or Reexported To Be Embedded in a Civil Product

Thermal imaging cameras described in ECCN 6A003.b.4.b that have a frame rate greater than 60 Hz or that incorporate a focal plane array with more than 111,000 elements or that are being exported or reexported to be embedded in a civil product continue to be subject to NS column 2, RS column 1, AT column 1 and UN reasons for control. These cameras generally will continue to require a license based on CCL license requirements for all destinations other than Canada. This rule retains this license requirement through revised language to the RS column 1 license requirement paragraph in ECCN 6A003, applying that requirement to cameras in ECCN 6A003.b.4.b that have a frame rate greater than 60 Hz or a focal plane array with more than 111,000 elements or that are being exported or reexported to be embedded in a civil product. However, pursuant to this rule, BIS may issue licenses that remove the RS column 1 license requirement for cameras that are fully-packaged for use as consumer-ready civil products for exports or reexports to Australia, Austria, Belgium, Bulgaria, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom.

Removal of Commerce Control List Based License Requirements for 36 Countries and Revision of License Application Review Policy for Certain Other Countries for Cameras With Lower Frame Rates and Number of Elements in the Cameras' Focal Plane Arrays That Are Not Being Exported or Reexported To Be Embedded in a Civil Product

This rule removes all CCL based license requirements for cameras described in ECCN 6A003.b.4.b that incorporate focal plane arrays with not more than 111,000 elements and that have a frame rate of 60 Hz or less and that are not being exported or reexported to be embedded in a civil product when being exported or reexported to Australia, Austria, Belgium, Bulgaria, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom. Exports and reexports of the cameras to Canada will continue to have no Commerce Control List based license requirements.

In addition, pursuant to this rule, BIS may issue licenses that remove the RS column 1 license requirement for exports and reexports to authorized companies as named in the license for the purpose of embedding such camera into a completed product that will be distributed only in Australia, Austria, Belgium, Bulgaria, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom.

This rule also revises license application review policy for cameras described in ECCN 6A003.b.4.b that incorporate focal plane arrays with not more than 111,000 elements and that have a frame rate of 60 Hz or less and that are not being exported or reexported to be embedded in a civil product when such cameras are being exported or reexported to most destinations for which a license is required for regional stability reasons. Applications to export or reexport cameras incorporating a focal plane array with not more than 111,000 elements and a frame rate of 60 Hz or less and that are not being exported or reexported to be embedded in a civil product will be evaluated under the regional stability policy (RS column 2) set forth in § 742.6(b)(2) of the EAR, i.e., “will generally be considered favorably on a case-by-case basis unless there is evidence that the export or reexport would contribute significantly to the destabilization of the region to which the equipment is destined.”

Imposition of Reporting Requirement

This rule imposes a new reporting requirement with respect to exports for which this rule's revision or removal of regional stability as a reason for control results in the removal of all CCL based license requirements. Exporters of cameras described in ECCN 6A003.b.4.b will have to report semiannually to BIS by e-mail the name, address and telephone number of the exporter; the date of each export; the name, address and telephone number of the consignee or end user; the model number(s); the serial number of each exported camera that has a serial number; and the quantity of each model number of camera exported without a license to Australia, Austria, Belgium, Bulgaria, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom. BIS will use the information in these reports to verify that the cameras subject to this regulation are continuing to be sold to appropriate end-users and that the changes in controls are not jeopardizing U.S. national security or foreign policy interests. The rule imposes this reporting requirement by adding a new § 743.3—Thermal Imaging Camera Reporting.

Limitation on Use of License Exception APR for Cameras in ECCN 6A003.b.4.b

This rule limits use of License Exception APR for cameras described in ECCN 6A003.b.4.b by making such cameras ineligible for reexport under paragraph (a) of License Exception APR, and limits their reexport under paragraph (b) to destinations and for purposes for which they would not have a CCL based license requirement if exported from the United States. BIS is making this change to enable BIS to inform, via license conditions, the recipients of the reexports of the need to obtain a license for further reexports.

Revised Treatment of Cambodia and Laos With Respect to Paragraph (a) of License Exception APR

This rule revises the treatment of Cambodia and Laos as eligible destinations under License Exception APR. Although both countries are in Country Group D:1 and not in Country Group B, prior to publication of this rule, for purposes of License Exception APR, paragraph (a) they were treated as if the were in Country Group B (the items eligible for reexport under paragraph (a) of License Exception APR vary based on the country group in which the destination is located). Upon publication of this rule, they will be treated in the a same manner as other members of Country Group D:1 BIS is making this change because current national security interests of the United States do not support such disparate treatment of countries in Country Group D:1.

New End-User and End-Use License Requirements

In recognition of the fact that these cameras could be used in military activities, this rule imposes a license requirement on exports and reexports to all destinations other than Canada, when the exporter or reexporter knows, at the time of export or reexport, that the item will be used by a military end-user or will be incorporated into a military commodity described in ECCN 0A919 as created by this rule. The rule defines military end-user as national armed services (army, navy, marine, air force, or coast guard), as well as the national guard and national police, government intelligence or reconnaissance organizations, or any person or entity whose actions or functions are intended to support “military end-uses” as defined in § 744.17(d).

This rule also imposes a license requirement if BIS informs an exporter or reexporter, either individually by specific notice or through amendment to the EAR, that a license is required for export or reexport of items described in ECCN 6A003.b.4.b to specified end-users, because BIS has determined that there is an unacceptable risk of diversion to military end-users. Amendments to the EAR informing parties of such risk are in the form of amendments to the Entity List (Supplement No. 4 to part 744 of the EAR).

Addition of Certain Cameras to the List of Items That Require a License for Export, Reexport or Transfer to Certain Military End Uses in China

Supplement No. 2 to part 744 of the EAR lists items for which § 744.21 of the EAR requires a license for the export, reexport or transfer to certain military end-uses in the People's Republic of China. This rules adds cameras controlled by ECCN 6A993 to Supplement No. 2 to part 744. BIS is taking this action consistent with United States Government policy of not supporting China's military modernization efforts.

Imposition of License Requirement for Software To Raise the Frame Rate of Cameras Above 9 Hz

This rule adds a new ECCN 6D994 to apply RS column 1 licensing requirement to software that is capable of increasing to more than 9 Hz, the frame rate of cameras that incorporate focal plane arrays controlled by 6A002.a.3.f. This new ECCN will allow BIS to impose a license requirement on software that could be used to raise the frame rate of previously exported cameras to a level equivalent to that of cameras that require a license for export.

Rulemaking Requirements

1. This rule is not a significant rule for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation contains a collection previously approved by the OMB under control numbers 0694-0088, (Multi-Purpose Application,” which carries a burden hour estimate of 58 minutes to prepare and submit form BIS-748. Miscellaneous and recordkeeping activities account for 12 minutes per submission. BIS estimates that this rule will reduce the total burden hours associated with this collection by 1,750 annually.

The reporting requirement for exports of cameras described in ECCN 6A3.b.4.b, imposed by this rule is a new collection of information. This new collection has been approved by OMB under control number 0694-0133. The estimated burden associated with this new collection is 60 hours annually.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States (see 5 U.S.C. 553(a)(1)). Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects

15 CFR Part 730

Administrative practice and procedure, Advisory committees, Exports, Reporting and recordkeeping requirements, Strategic and critical materials.

15 CFR Part 734

Administrative practice and procedure, Exports, Inventions and patents, Research, Science and technology.

15 CFR Part 740

Administrative practice and procedure, Exports, Reporting and recordkeeping requirements.

15 CFR Parts 738 and 772

Exports.

15 CFR Part 742

Exports, Terrorism.

15 CFR Part 743

Administrative practice and procedure, Reporting and recordkeeping requirements.

15 CFR Part 744

Exports, Reporting and recordkeeping requirements, Terrorism.

15 CFR Parts 746 and 774

Exports, Reporting and recordkeeping requirements.

For the reasons set forth in the preamble, the Export Administration Regulations (15 CFR parts 730-774) are amended as follows:

PART 730—[AMENDED]

1. The authority citation for part 730 continues to read as follows:

Authority: 50 U.S.C. app. 2401 et seq.; 50 U.S.C. 1701 et seq.; 10 U.S.C. 7420; 10 U.S.C. 7430(e); 22 U.S.C. 287c; 22 U.S.C. 2151 note; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; 22 U.S.C. 7201 et seq.; 22 U.S.C. 7210; E.O. 11912, 41 FR 15825, 3 CFR, 1976 Comp., p. 114; E.O. 12002, 42 FR 35623, 3 CFR, 1977 Comp., p. 133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp. p. 219; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; E.O. 13338, 69 FR 26751, May 13, 2004; Notice of July 23, 2008, 73 FR 43603 (July 25, 2008); Notice of November 10, 2008, 73 FR 67097 (November 12, 2008).

2. Supplement No. 1 to part 730 is amended by adding to the table immediately following the entry for collection number 0694-0132 and immediately preceding the entry for 0964-0134, the following new entry.

Supplement No. 1 to Part 730—Information Collection Requirements Under the Paperwork Reduction Act: OMB Control Numbers

* * * * *

Collection No. | Title | Reference in the EAR
* * * * * * *
0694-0133 | Thermal Imaging Camera Reporting | § 743.3
* * * * * * *

PART 734—[AMENDED]

3. The authority citation for part 734 continues to read as follows:

Authority: 50 U.S.C. app. 2401 et seq.; 50 U.S.C. 1701 et seq.; E.O. 12938, 59 FR 59099, 3 CFR, 1994 Comp., p. 950; E.O. 13020, 61 FR 54079, 3 CFR, 1996 Comp. p. 219; E.O. 13026, 61 FR 58767, 3 CFR, 1996 Comp., p. 228; E.O. 13222, 66 FR 44025, 3 CFR, 2001 Comp., p. 783; Notice of July 23, 2008, 73 FR 43603 (July 25, 2008); Notice of November 10, 2008, 73 FR 67097 (November 12, 2008).

4. Section 734.4 is amended by redesignating paragraph (a)(5) as paragraph (a)(6) and adding a new paragraph (a)(5) to read as follows:

§ 734.4 De Minimis U.S. content.

(a) * * *

(5) There is no de minimis level for foreign made military commodities that incorporate cameras classified under ECCN 6A003.b.4.b if such cameras would be subject to the EAR as separate items and if the foreign made military commodity is not subject to the International Traffic in Arms Regulations (22 U.S.C. Parts 120-130).

* * * * *

PART 738—[AMENDED]

5. The authority citation for part 738 continues to read as follows:

Authority: 50 U.S.C. app. 2401 et seq.; 50 U.S.C. 1701 et seq.; 10 U.S.C. 7420; 10 U.S.C. 7430(e); 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of July 23, 2008, 73 FR 43603 (July 25, 2008).

6. In Supplement No. 1 to part 738, The Commerce Country Chart, add:

a. References to footnote number 2 in the rows for Cyprus, Malta and South Africa,

b. References to footnote number 3 in the rows for Australia, Austria, Belgium, Bulgaria, Cyprus, Czech Republic, Denmark, Estonia, Finland, France, Germany, Greece, Hungary, Iceland, Ireland, Italy, Japan, Korea, South, Latvia, Lithuania, Luxembourg, Malta, Netherlands, New Zealand, Norway, Poland, Portugal, Romania, Slovakia, Slovenia, South Africa, Spain, Sweden, Switzerland, Turkey, and United Kingdom.

c. References to footnote number 4 in rows for the countries Austria, Cyprus, Finland, Ireland, Korea, South, Malta, South Africa, Sweden, and Switzerland; and

d. New footnotes 2 through 4 to the table to read as follows:

Supplement No. 1 to Part 738—Commerce Country Chart

* * * * *

² See § 742.4(a) for special provisions that apply to exports and reexports to these countries of certain thermal imaging cameras.

³ See § 742.6(a)(3) for special provisions that apply to military commodities that are subject to ECCN 0A919.

⁴ See § 742.6(a)(2) and (4)(ii) regarding special provisions for exports and reexports of certain thermal imaging cameras to these countries.

PART 740—[AMENDED]

7. The authority citation for part 740 continues to read as follows:

Authority: 50 U.S.C. app. 2401 et seq.; 50 U.S.C. 1701 et seq.; Sec. 901-911, Public Law 106-387; E.O. 13026, 61 FR 58767, 3 CFR, 1996 Comp., p. 228; E.O. 13222, 66 FR 44025, 3 CFR, 2001 Comp., p. 783; Notice of July 23, 2008, 73 FR 43603 (July 25, 2008).

8. Section 740.2 is amended by adding paragraph (a)(11) to read as follows:

§ 740.2 Restrictions on all License Exceptions.

(a) * * *

(11) The item is a “military commodity” subject to ECCN 0A919, except that such military commodities may be reexported in accordance with § 740.11(b)(2)(ii) (official use by personnel and agencies of the U.S. Government).

* * * * *

9. Section 740.16 is amended by revising paragraph (a)(2), paragraph (a)(3)(i), paragraph (a)(3)(ii) and paragraph (b) to read as follows:

§ 740.16 Additional permissive reexports (APR).

* * * * *

(a) * * *

(2) The commodities being reexported are not controlled for NP, CB, MT, SI or CC reasons and are not military commodities described in ECCN 0A919 or cameras described in ECCN 6A003.b.4.b; and

(3) * * *

(i) A country in Country Group B that is not also included in Country Group D:2, D:3, or D:4; and the commodity being reexported is both controlled for national security reasons and not controlled for export to Country Group A:1; or

(ii) A country in Country Group D:1 (National Security) (see Supplement No. 1 to part 740), other than North Korea and the commodity being reexported is controlled for national security reasons.

(b) Reexports to and among specified countries. (1) Commodities that are not controlled for nuclear nonproliferation or missile technology reasons and that are not listed in paragraph (b)(2) or (b)(3) of this section may be reexported to and among Country Group A:1 and cooperating countries, provided that eligible commodities are for use or consumption within a Country Group A:1 (see Supplement No. 1 to part 740) or cooperating country, or for reexport from such country in accordance with other provisions of the EAR.* * *

(2) Except as provided in paragraph (b)(3) of this section, cameras described in ECCN 6A003.b.4.b and “military commodities” described in ECCN 0A919 may not be exported under this paragraph (b).

(3) Cameras described in ECCN 6A003.b.4.b may be exported or reexported to and among: Australia, Austria, Belgium, Bulgaria, Canada, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom if:

(i) Such cameras are fully packaged for use as consumer ready civil products; or, (ii) Such cameras with not more than 111,000 elements are to be embedded in civil products.

* * * * *

PART 742—[AMENDED]

10. The authority citation for 15 CFR part 742 continues to read as follows:

Authority: 50 U.S.C. app. 2401 et seq.; 50 U.S.C. 1701 et seq.; 22 U.S.C. 3201 et seq.; 42 U.S.C. 2139a; 22 U.S.C. 7201 et seq.; 22 U.S.C. 7210; Sec 1503, Public Law 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23 of May 7, 2003, 68 FR 26459, May 16, 2003; Notice of July 23, 2008, 73 FR 43603 (July 25, 2008); Notice of November 10, 2008, 73 FR 67097 (November 12, 2008).

11. Section 742.4 is amended by revising the third sentence of paragraph (a) and by adding a new sentence immediately following that third sentence to read as follows:

§ 742.4 National security.

(a) * * * A license is required to all destinations except Country Group A:1 and cooperating countries (see Supplement No. 1 to part 740), Bulgaria, Czech Republic, Estonia, Hungary, Iceland, Latvia, Lithuania, Poland, Romania, Slovakia, and Slovenia for all items in ECCNs on the CCL that include NS column 2 in the Commerce Country Chart column of the “License Requirements” section except those cameras in ECCN 6A003.b.4.b that have a focal plane array with 111,000 or fewer elements and a frame rate of 60 Hz or less. A license is required to all destinations except Australia, Austria, Belgium, Bulgaria, Canada, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom for those cameras in ECCN 6A003.b.4.b that have a focal plane array with 111,000 or fewer elements and a frame rate of 60 Hz or less and for cameras being exported or reexported pursuant to an authorization described in § 742.6(a)(2)(iii) or (v) of the EAR.* * *

* * * * *

12. Section § 742.6 is amended by revising paragraph (a) and paragraph (b)(1) and paragraph (b)(2) to read as follows:

§ 742.6 Regional stability.

(a) License requirements. The following controls are maintained in support of U.S. foreign policy to maintain regional stability:

(1) RS Column 1 License Requirements in General. As indicated in the CCL and in RS column 1 of the Commerce Country Chart (see Supplement No. 1 to part 738 of the EAR), a license is required to all destinations, except Canada, for items described on the CCL under ECCNs 6A002.a.1, a.2, a.3, .c, or .e; 6A003.b.3, and b.4.a; 6A008.j.1; 6A998.b; 6D001 (only “software” for the “development” or “production” of items in 6A002.a.1, a.2, a.3, .c; 6A003.b.3 and .b.4; or 6A008.j.1); 6D002 (only “software” for the “use” of items in 6A002.a.1, a.2, a.3, .c; 6A003.b.3 and .b.4; or 6A008.j.1); 6D991 (only “software” for the “development,” “production,” or “use” of equipment controlled by 6A002.e or 6A998.b); 6E001 (only technology” for “development” of items in 6A002.a.1, a.2, a.3 (except 6A002.a.3.d.2.a and 6A002.a.3.e for lead selenide focal plane arrays), and .c or .e, 6A003.b.3 and b.4, or 6A008.j.1); 6E002 (only “technology” for “production” of items in 6A002.a.1, a.2, a.3, .c, or .e, 6A003.b.3 or b.4, or 6A008.j.1); 6E991 (only “technology” for the “development,” “production,” or “use” of equipment controlled by 6A998.b); 6D994; 7A994 (only QRS11-00100-100/101 and QRS11-0050-443/569 Micromachined Angular Rate Sensors); 7D001 (only “software” for “development” or “production” of items in 7A001, 7A002, or 7A003); 7E001 (only “technology” for the “development” of inertial navigation systems, inertial equipment, and specially designed components therefor for civil aircraft); 7E002 (only “technology” for the “production” of inertial navigation systems, inertial equipment, and specially designed components therefor for civil aircraft); 7E101 (only “technology” for the “use” of inertial navigation systems, inertial equipment, and specially designed components for civil aircraft).

(2) Special RS Column 1 license requirements applicable to certain thermal imaging cameras.

(i) As indicated in the CCL and in RS Column 1 of the Commerce Country Chart, cameras described in 6A003 b.4.b require a license to all destinations other than Canada if such cameras have a frame rate greater than 60 Hz.

(ii) Except as noted in paragraph (a)(2)(iii) of this section, as indicated in the CCL and in RS Column 1 of the Commerce Country Chart, cameras described in 6A003 b.4.b require a license to all destinations other than Canada if such cameras incorporate a focal plane array with more than 111,000 elements and a frame rate of 60 Hz or less, or cameras described in 6A003 b.4.b that are being exported or reexported to be embedded in a civil product.

(iii) BIS may issue licenses for cameras subject to the license requirement of paragraph (a)(2)(ii) of this section that are fully-packaged for use as consumer-ready civil products that, in addition to the specific transactions authorized by such license, authorize exports and reexports of such cameras without a license to any civil end-user to whom such exports or reexport are not otherwise prohibited by U.S. law in Australia, Austria, Belgium, Bulgaria, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom. The license requirements of this paragraph (a)(2) shall not apply to exports or reexports so authorized. In this paragraph, the term “civil end-user” means any entity that is not a national armed service (army, navy, marine, air force, or coast guard), national guard, national police, government intelligence organization or government reconnaissance organization, or any person or entity whose actions or functions are intended to support “military end-uses” as defined in 744.17(d).

(iv) Except as noted in paragraph (a)(2)(v) of this section, as indicated in the CCL and in RS Column 1 of the Commerce Country Chart, cameras described in 6A003 b.4.b require a license to all destinations other than Canada if such cameras incorporate a focal plane array with 111,000 elements or less and a frame rate of 60 Hz or less and are being exported or reexported to be embedded in a civil product.

(v) BIS may also issue licenses for the cameras described in paragraph (a)(2)(iv) that, in addition to the specific transactions authorized by such license, authorize exports and reexports to authorized companies described in the license for the purpose of embedding such cameras into a completed product that will be distributed only in Australia, Austria, Belgium, Bulgaria, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom. The license requirements of this paragraph (a)(2) shall not apply to exports or reexports so authorized. In this paragraph, the term “authorized companies” means companies that have been previously licensed for export, are not the subject of relevant negative intelligence or open source information, have not been the subject of a Department of Commerce or Department of State enforcement action within the past two years, have demonstrable production capacity, and do not pose an unacceptable risk of diversion.

(3) Special RS Column 1 license requirement applicable to military commodities. A license is required for reexports to all destinations except Canada for items classified under ECCN 0A919 except when such items are being reexported as part of a military deployment by a unit of the government of Australia, Austria, Belgium, Bulgaria, Canada, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, the United Kingdom or the United States.

(4) RS Column 2 license requirements.

(i) License Requirements Applicable to Most RS Column 2 Items. As indicated in the CCL and in RS Column 2 of the Commerce Country Chart (see Supplement No. 1 to part 738 of the EAR), a license is required to any destination except Australia, Japan, New Zealand, and countries in the North Atlantic Treaty Organization (NATO) for items described on the CCL under ECCNs 0A918, 0E918, 2A983, 2D983, 2E983, 8A918, and for military vehicles and certain commodities (specially designed) used to manufacture military equipment, described on the CCL in ECCNs 0A018.c, 1B018.a, 2B018, 9A018.a and .b, 9D018 (only software for the “use” of commodities in ECCN 9A018.a and .b), and 9E018 (only technology for the “development”, “production”, or “use” of commodities in 9A018.a and .b).

(ii) Special RS Column 2 license requirements applicable only to certain cameras. As indicated by the CCL, and RS column 2 and footnote number 4 to the Commerce Country Chart, a license is required to any destination except Australia, Austria, Belgium, Bulgaria, Canada, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, and the United Kingdom for fully-packaged thermal imaging cameras for use as consumer-ready civil products controlled by 6A003.b.4.b when incorporating “focal plane arrays” that have not more than 111,000 elements and a frame rate of 60 Hz or less and that are not being exported or reexported to be embedded in a civil product.

(5) RS requirements that apply to Iraq. As indicated on the CCL, a license is required for the export or reexport to Iraq or transfer within Iraq of the following items controlled for RS reasons on the CCL: 0B999, 0D999, 1B999, 1C992, 1C995, 1C997, 1C999 and 6A992. The Commerce Country Chart is not designed to determine RS licensing requirements for these ECCNs.

(6) RS requirement that applies to Hong Kong. A license is required to export or reexport to Hong Kong any item controlled in ECCN 6A003.b.4.b

(b) * * *

(1) Applications for exports and reexports described in paragraph (a)(1), (a)(2) or (a)(6) of this section will be reviewed on a case-by-case basis to determine whether the export or reexport could contribute directly or indirectly to any country's military capabilities in a manner that would alter or destabilize a region's military balance contrary to the foreign policy interests of the United States. Applications for reexports of items described in paragraph (a)(3) of this section will be reviewed applying the policies for similar commodities that are subject to the International Traffic in Arms Regulations (22 CFR Parts 120-130).

(2) Applications to export and reexport commodities described in paragraph (a)(4) of this section will generally be considered favorably on a case-by-case basis unless there is evidence that the export or reexport would contribute significantly to the destabilization of the region to which the equipment is destined.

* * * * *

PART 743—[AMENDED]

13. The authority citation for part 743 continues to read as follows:

Authority: 50 U.S.C. app. 2401 et seq.; Public Law 106-508; 50 U.S.C. 1701 et seq.; E.O. 13222, 66 FR 44025, 3 CFR, 2001 Comp., p. 783; Notice of July 23, 2008, 73 FR 43603 (July 25, 2008).

14. Add § 743.3 to read as follows:

§ 743.3 Thermal imaging camera reporting.

(a) General requirement. Exports of thermal imaging cameras must be reported to BIS as provided in this section.

(b) Transactions to be reported. Exports that are not authorized by an individually validated license of thermal imaging cameras controlled by ECCN 6A003.b.4.b to Australia, Austria, Belgium, Bulgaria, Cyprus, Czech Republic, Denmark, Estonia, Finland, France, Germany, Greece, Hungary, Iceland, Ireland, Italy, Japan, Latvia, Lithuania, Luxembourg, Malta, the Netherlands, New Zealand, Norway, Poland, Portugal, Romania, Slovakia, Slovenia, South Africa, South Korea, Spain, Sweden, Switzerland, Turkey, or the United Kingdom must be reported to BIS.

(c) Party responsible for reporting. The exporter as defined in § 772.1 of the EAR must ensure the reports required by this section are submitted to BIS.

(d) Information to be included in the reports. For each export described in paragraph (b) of this section, the report must identify: the name, address, and telephone number of the exporter; the date of each export; the name, address and telephone number of the consignee or end user; the model number(s) of each camera exported; the serial number of each exported camera that has a serial number; and the quantity of each model number of camera exported. (Note: Technical specifications may be requested on an as needed basis and must be provided to BIS after any such request.)

(e) Where to submit reports. Submit the reports via e-mail to UTICreport@bis.doc.gov.

(d) Reporting periods and due dates. This reporting requirement applies to exports made on or after May 22, 2009. Exports must be reported within one month of the reporting period in which the export takes place. The first reporting period begins on May 22, 2009 and runs through June 30, 2009. Subsequent reporting periods shall begin on January 1 and July 1 of each year, and shall run through June 30, and December 31 respectively. Exports in each reporting period must be reported to BIS no later than the last day of the month following the month in which the reporting period ends.

PART 744—[AMENDED]

15. The authority citation for part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of July 23, 2008, 73 FR 43603 (July 25, 2008); Notice of November 10, 2008, 73 FR 67097 (November 12, 2008).

16. Add § 744.9 to read as follows:

§ 744.9 Restrictions on certain exports and reexports of cameras controlled by ECCN 6A003.b.4.b.

(a) General prohibitions. In addition to the applicable license requirements for national security, regional stability, anti-terrorism and United Nations embargo reasons in §§ 742.4, 742.6, 742.8, 746.3 and 746.8 of the EAR, a license is required to export or reexport to any destination other than Canada cameras described in ECCN 6A003.b.4.b if at the time of export or reexport, the exporter or reexporter knows or is informed that the item will be or is intended to be:

(1) Used by a “military end-user,” as defined in paragraph (d) of this section; or

(2) Incorporated into a “military commodity” controlled by ECCN 0A919.

(b) Additional prohibition on exporters or reexporters informed by BIS. BIS may inform an exporter or reexporter, either individually by specific notice or through amendment to the EAR, that a license is required for the export or reexport of items described in ECCN 6A003.b.4.b to specified end-users, because BIS has determined that there is an unacceptable risk of diversion to the users or unauthorized incorporation into the “military commodities” described in paragraph (a) of this section. Specific notice is to be given only by, or at the direction of, the Deputy Assistant Secretary for Export Administration. When such notice is provided orally, it will be followed by a written notice within two working days signed by the Deputy Assistant Secretary for Export Administration.

(c) License review standard. Applications for licenses required by this section will be reviewed by applying the policies that would be applied under the International Traffic in Arms Regulations (22 CFR Parts 120-130).

(d) Military end-user. In this section, the term “military end-user” means the national armed services (army, navy, marine, air force, or coast guard), as well as the national guard and national police, government intelligence or reconnaissance organizations, or any person or entity whose actions or functions are intended to support “military end-uses” as defined in § 744.17(d).

(e) Exception. Shipments subject to the prohibitions in paragraphs (a) and (b) of this section that are consigned to and for the official use of the U.S. Government authorized pursuant to § 740.11(b)(2)(ii) of the EAR may be made under License Exception GOV. No other license exceptions apply to the prohibitions described in paragraphs (a) and (b) of this section.

17. In Supplement No. 2 to part 744, add a paragraph (6)(iii) to read as follows:

Supplement No. 2 to Part 744—List of Items Subject to the Military End-Use License Requirement of § 744.21

* * * * *

(6) Category 6—Sensors and Lasers * * *

(iii) 6A993 Cameras, not controlled by 6A003 or 6A203 as follows (see List of Items Controlled). * * *

PART 746—[AMENDED]

18. The authority citation for part 746 continues to read as follows:

Authority: 50 U.S.C. app. 2401 et seq.; 50 U.S.C. 1701 et seq.; 22 U.S.C. 287c; Sec 1503, Public Law 108-11, 117 Stat. 559; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 3 CFR, 2001 Comp., p. 783; Presidential Determination 2003-23 of May 7, 2003, 68 FR 26459, May 16, 2003; Presidential Determination 2007-7 of December 7, 2006, 72 FR 1899 (January 16, 2007); Notice of July 23, 2008, 73 FR 43603 (July 25, 2008).

19. Section 746.8, paragraph (b)(1) is amended by adding a new sentence immediately following the existing third sentence to read as follows:

§ 746.8 Rwanda.

* * * * *

(b) * * *

(1) * * * Any U.S. person needs a license to reexport any item controlled by ECCN 0A919 to Rwanda. * * *

* * * * *

PART 772—[AMENDED]

21. The authority citation for 15 CFR part 772 continues to read as follows:

Authority: 50 U.S.C. app. 2401 et seq.; 50 U.S.C. 1701 et seq.; E.O. 13222, 66 FR 44025, 3 CFR, 2001 Comp., p. 783; Notice of July 23, 2008, 73 FR 43603 (July 25, 2008).

22. Section 772.1 is amended by adding, in alphabetical order, a definition for “military commodity” to read as follows:

§ 772.1 Definitions of terms as used in the Export Administration Regulations (EAR).

* * * * *

Military commodity. As used in § 734.4(a)(5), Supplement No. 1 to part 738 (footnote No. 3), § 740.2(a)(11), § 740.16(a)(2), § 740.16(b)(2), § 742.6(a)(3), § 744.9(a)(2), § 744.9(b), ECCN 0A919 and ECCN 6A003 (Related Controls), “military commodity” or “military commodities” means an article, material or supply except software or technology that is described on the United States Munitions List (22 CFR Part 121) or on the Munitions List that is published by the Wassenaar Arrangement on Export Controls for Conventional Arms and Dual-Use Goods and Technologies, but does not include any item listed in any Export Control Classification Number for which the last three numerals are 018.

* * * * *

PART 774—[AMENDED]

23. The authority citation for 15 CFR part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of July 23, 2008, 73 FR 43603 (July 25, 2008).

24. In Supplement No. 1 to part 774, Category 0, immediately following Export Control Classification Number 0A918 and immediately preceding Export Control Classification Number 0A978 add an Export Control Classification Number 0A919 to read as follows:

0A919 “Military commodities” as follows (see list of items controlled).

License Requirements

Reasons for Control: RS, AT, UN.

Control(s) | Country chart
RS applies to entire entry | RS Column 1.
AT applies to entire entry | AT Column 1.
UN applies to entire entry | Rwanda § 746.7 of the EAR.

License Exceptions

LVS: N/A.

GBS: N/A.

CIV: N/A.

List of Items Controlled

Unit: $ value.

Related Controls: (1) Military commodities are subject to the export licensing jurisdiction of the Department of State if they incorporate items that are subject to the International Traffic in Arms Regulations (ITAR) (22 CFR Parts 120-130). (2) Military commodities described in this paragraph are subject to the export licensing jurisdiction of the Department of State if such commodities are described on the United States Munitions List (22 CFR Part 121) and are in the United States. (3) The furnishing of assistance (including training) to foreign persons, whether in the United States or abroad in the design, development, engineering, manufacture, production, assembly, testing, repair, maintenance, modification, operation, demilitarization, destruction, processing, or use of defense articles that are subject to the ITAR; or the furnishing to foreign persons of any technical data controlled under 22 CFR 121.1 whether in the United States or abroad are under the licensing jurisdiction of the Department of State. (4) Brokering activities (as defined in 22 CFR 129.9) of military commodities that are subject to the ITAR are under the licensing jurisdiction of the Department of State.

Related Definitions: N/A.

Items: “Military commodities” with all of the following characteristics:

a. Described on either the United States Munitions List (22 CFR Part 121) or the Munitions List that is published by the Wassenaar Arrangement on Export Controls for Conventional Arms and Dual-Use Goods and Technologies (as set out on its Web site at http://www.wassenaar.org), but not any item listed in any Export Control Classification Number for which the last three characters are 018;

b. Produced outside the United States;

c. Not subject to the International Traffic in Arms Regulations (22 CFR Parts 120-130) for a reason other than presence in the United States; and

d. Incorporate one or more cameras controlled under ECCN 6A003.b.4.b.

25. In Supplement No. 1 to part 774, Category 6, Export Control Classification Number 6A003, revise the “Reason for Control” and the “Related Controls” paragraphs to read as follows:

6A003 Cameras.

License Requirements

Reason for Control: NS, NP, RS, AT, UN.

Control(s) | Country chart
NS applies to entire entry | NS Column 2.
NP applies to items controlled in paragraphs 6A003.a.2, a.3 and a.4 | NP Column 1.
RS applies to items controlled in 6A003.b.3, to items controlled in 6A003.b.4.a, and to items controlled in 6A003.b.4.b that have a frame rate greater than 60 Hz or that incorporate a focal plane array with more than 111,000 elements, or to items in 6A003.b.4.b when being exported or reexported to be embedded in a civil product. (But see § 742.6(a)(2)(iii) and (v) for certain exemptions) | RS Column 1.
RS applies to items controlled in 6A003.b.4.b that have a frame rate of 60 Hz or less and that incorporate a focal plane array with not more than 111,000 elements if not being exported or reexported to be embedded in a civil product | RS Column 2.
RS applies to items controlled in 6A003.b.4.b | A license is required to export or reexport these items to Hong Kong. This license requirement does not appear in the Commerce Country Chart.
AT applies to entire entry | AT Column 1.
UN applies to items controlled in 6A003.b.3 and b.4 | Iraq and Rwanda.

License Exceptions

* * * * *

List of Items Controlled

Unit: * * *

Related Controls: (1) See ECCNs 6E001 (“development”), 6E002 (“production”), and 6E201 (“use”) for technology for items controlled under this entry. (2) Also see ECCN 6A203. (3) See ECCN 8A002.d and .e for cameras specially designed or modified for underwater use. (4) See ECCN 0A919 for foreign made military commodities that incorporate cameras described in 6A003.b.4.b. (5) Section 744.9 imposes license requirements on cameras described in 6A003.b.4.b if being exported for incorporation into an item controlled by ECCN 0A919 or for a military end-user.

* * * * *

26. In Supplement No. 1 to part 774, immediately following Export Control Classification Number 6D993, add a new Export Control Classification Number 6D994 to read as follows:

6D994 “Software” designed or modified for cameras incorporating “focal plane arrays” specified by 6A002.a.3.f and designed or modified to remove a frame rate restriction and allow the camera to exceed the frame rate specified in 6A003.b.4. Note 3.a.

License Requirements

Reason for Control: RS.

Control(s) | Country chart
RS applies to entire entry | RS Column 1.

License Exceptions

CIV: N/A.

TSR: N/A.

List of Items Controlled

Unit: $ value.

Items: The list of Items Controlled is in the ECCN heading.

Dated: May 18, 2009.
Matthew S. Borman,
Acting Assistant Secretary for Export Administration.

[FR Doc. E9-11951 Filed 5-21-09; 8:45 am]

BILLING CODE 3510-33-P